ENVIRONMENTAL PROTECTION AGENCY

[FRL-9753-8]

Casmalia Disposal Site; Notice of Proposed CERCLA Administrative De Minimis Settlement

AGENCY: Environmental Protection Agency (EPA).

ACTION: Notice; request for public comment.

SUMMARY: In accordance with section 122(i) of the Comprehensive Environmental Response, Compensation, and Liability Act, as amended (CERCLA) and section 7003 of the Resource Conservation and Recovery Act (RCRA), EPA is hereby providing notice of a proposed administrative de minimis settlement concerning the Casmalia Disposal Site in Santa Barbara County, California (the Casmalia Disposal Site). Section 122(g) of CERCLA provides EPA with the authority to enter into administrative de minimis settlements. This settlement is intended to resolve the liabilities of 290 settling parties for the Casmalia Disposal Site under sections 106 and 107 of CERCLA and section 7003 of RCRA. These parties are identified below. These parties have also elected to resolve their liability for response costs and potential natural resource damage claims by the United States Fish and Wildlife Service (USFWS) and the National Oceanic and Atmospheric Administration (NOAA). These 290 parties sent 22,841,618 lbs. of waste to the Casmalia Disposal Site, which represents 0.004 (0.4%) of the total Site waste of 5.6 billion pounds. This settlement requires these parties to pay over $2 million to EPA.

Settling Parties: Parties that have elected to settle their liability with EPA at this time are as follows: A Finkl & Sons Co., AAMCO Transmissions Incorporated, Abbott Laboratories, Ace Orthopedic Manufacturing, Inc., Active Magnetic Inspection, Inc., Acton-Agua Dulce Unified School District, Adventist Health, All Diameter Grinding Inc., Allied Pacific Metal Stamping, Alloys Cleaning Inc., Alzeta Corporation, Ambassador Auto, Amercom-Atlantic Research Corp, American Chemical Etching, American Magnetics Corporation, American Rubber Manufacturing, American Security Products Co., Anacapa Marine Services, Analogy Devices, Inc as Successor to Precision Monolithics, Analytical Systems, Division of Marion Labs, Anja Engineering Corporation, Antioch Unified School District, Apex Drum Company, Inc., APL Limited, Aratex Services, Inc., ARB, Inc., Architectural Plywood Inc., Arlon Products, Arnco, Asbury Oil Co., Associated Spring Corporation, Astro Plating, Atlas Radiator Service, Autologic Inc., Avantek,Babcock Inc., BASF Corporation, Bausch & Lomb, Beauman Trust/John L. Hunter & Associates, Better Bilt Aluminum, Big Creek Lumber Company, Blount International, Bonita Packing Co., Brown and Caldwell, Brunswick Corporation, Cal Doran, California Acrylic Industries, California Oil Recyclers, Calnap Tanning Co, Calstar Motors, Inc., Cal-Tron Plating, Caputo Associates, Cargill, Inc., Carter Precision Parts, Inc., Carter-Wallace Inc., Cascade Die Casting Group, Inc., Cate School, Certified Grocers, Chase Packaging Corporation, Chemrex Coatings Corporation, Children's Hospital of Los Angeles, CHM Manufacturing West, Inc., Chrome Nickel Plating, Circle Seal, City of Barstow, City of Buena Park, City of Chino, City of Costa Mesa, City of Glendale, City of Hope National Medical Center, City of Manteca, City of Ontario, City of Port Hueneme, City of San Rafael, City of Santa Fe Springs, Commercial Plating and Engineering Corporation, Inc., Concorde Interstate Battery Co., Connor Spring Manufacturing, Continental Heat Treating, Continental Manufacturing Co., Cook Paint Company, Cool Transports, Inc., Coral Chemical Company, Costco, County of Nevada, Crest Beverage, LLC, Crossfield Products Corporation, Crown Disposal Inc., Custom Chemical Formulators, Inc., Dayton-Granger, Inc., Del Mar Window Coverings, DeVincenci Metal Products, Inc., Disk Media, Inc., Downey Grinding, DuBois Chemicals, Dunn School, DV Industries, Inc., Dynacast Inc., Dynatech Corporation, Dynatem/R C Circuits, Eaz-Lift Spring Corporation, El Paso Electric Co., Electrolurgy, Inc., Electron Plating III, Inc., Electronic Chrome Co., Inc., Entenmann's/Orowheat, Eva Fkiaras, Evans Tank Lines, Exel Corp./Exel Microelectronics, Inc., Fabri Cote, Farmers Insurance Company, Feather River Forest Products Company, Federal Manufacturing Corporation, Fibre Container Corporation, Fifield Land Company, Film Salvage Company, Fontana Wood Preserving, Inc., Formica Corporation, Frito-Lay, Inc, Fritz Burns Foundation, FUJI Hunt USA, Future Foam, Gaehwiler M. Construction Inc., Garner Glass Company, GCG Corporation, General Chemical Corporation, Geophysical Service, Inc., Glenair, Inc., Gold Fields Operating Company, Golden State Foods Corporation, H.A. Luallen, Inc., H.G. Fenton Company, Hannibal Industries, Harbor Diesel and Equipment,Inc, Hartson's Ambulance Service, Hermetic Seal Corporation, Hill Refrigeration Corporation, Hi-Rel Connectors, Inc., Holt Inc., Hosokawa Micron International, Inc., House of Packaging, Humana, Inc., Hyundai Electronics America, International Rectifier Corporation, Irv Guinn, J.B. Dewar, Inc., James Jones Company, Johnson Controls, Inc, Kern High School District, Kern Oil & Refining Company, Keystone Automotive Industries, Inc., Kingsbacher-Murphy, Wesco Division, Lamsco West Inc., Layne Western, Leisure Village Association, Inc., Libby Owens Ford Co, Liquid Investment, Inc., Loctite Corporation, Lompoc Unified School District, Los Angeles Trade-Technical College, Lucas Valley Properties, Inc., Macklanburg-Duncan Company, MAPO, Maruichi America Corp, McDermott, Inc., MDT Biologic Company, Meggitt-USA, Mestek, Inc., MH Golden, Micro Metallics Corp, Micro Power Systems, Mid-State Industrial Insulation, Inc., Moshe Silagi, NCR Corporation, Neal Feay Company, Nelson Name Plate Company, NH3 Service Company, Inc., Norac Company, Nor-Cal Frozen Foods, Nortek Inc, Northern California Power Agency, Norton & Son of California, Nova Transportation Corp, Ojai Oil Company, O'Neil Data Systems, Inc., Orange Heights Orange Association, Oregon State University, Pacific Southwest Mortgage, Pacific Holding Company, Packaging Industries, Park Engineering and Manufacturing Co., Pebble Beach Company, Petaluma Joint Union High School District, Peterson Tractor Company, Pictsweet Company, Plastic Dress-Up Company, Polycore Electronics, Inc., Polymetrics Inc., Precision Tube Bending, Quest Diagnostics, Ramona's Mexican Food Products, RBC Bearings, Redman Equipment & Manufacturing Co, Redwood General Tire, Regillus Homeowners Association, Relton Corporation, Replacement Parts Manufacturing, Republic Fasteners Mfg. Corp, Reuland Electric Company, Reynolds & Reynolds Company, Richmond Honda, Rolls Scaffold & Equipment Inc., Rose Hills Memorial Park, Royal Paper Box Company, Royal Rubber & Manufacturing Company, S&K Plating, Inc., S. J. Amoroso Construction Co., Inc., SAE International, San Francisco Newspaper Agency, San Ysidro Ranch, Sandberg Furniture Mfg, Inc., Santa Barbara Metropolitan, Santa Clara Unified School District, Santa Clara Valley Water District, Santa Maria Ford, Santa Maria Valley Warehouse, Sav-On Plating, Schlumberger Well Service, Sealright Co., Inc., Sepulveda Building Materials, Sheller-Globe Corporation, Sierra Aluminum Company, Sierra Circuits, Inc., Signet Armorlite, Inc., Smith Brothers Crane Rental, Inc., Snap-on Industrial, Southern California Gardeners' Federation, Inc., Speedy Circuits, Inc., Stabile Plating Co. Inc., State of Hawaii, State of Oregon Department of Corrections, State of Oregon Department of Environmental Quality, Steiny and Company, Inc, Suburban Motel, Sullivan Standard, Sumiden Wire Products, Tailored Masonry of California, TCR Industries, Inc., Tension Envelope Corporation, Terminal Freezers, Inc., Textile Rubber, Textured Coatings of America, The Gainey Vineyard, The Kingsfords Product Company, Thomas Printing Ink, Thomson-CSF Components Corporation, Three D Service Company, Toby's Automotive, Trailer Train Co., Cal Pro Divison, Trident Plating Inc, Tri-Ex Tower Corporation, Trimm Industries, Truck Rail Handling, Inc., U.S. Chrome Corporation of California, U.S. Circuit, Inc., Universal Punch Corporation, University of Oregon, V&M Plating Company, Valley Circuits,Van Nuys Plating, Inc., Ventura County Star Free Press, Votaw Precision Technologies, Inc., W.A. Kruger Co., W.M. Lyles Co., W.R. Hatch Company, Wallenius Lines, Waltco, Wareham Development Corporation, Wells Fargo Bank, Western Digital Corporation, Western Metal Lath, William S. Hart Union High, School District, Wilsey Foods, Inc., Windowmaster Products, Inc., Woodward & Clyde Consultants, World Airways, Zep Manufacturing Co., Zephyr Mfg. Company.

DATES: EPA will receive written comments relating to the settlement until December 20, 2012. EPA will consider all comments it receives during this period, and may modify or withdraw consent to the settlement if any comments disclose facts or considerations indicating that the settlement is inappropriate, improper, or inadequate.

Public Meeting: In accordance with section 7003(d) of RCRA, 42 U.S.C. 6973(d), commenters may request an opportunity for a public meeting in the affected area. The deadline for requesting a public meeting is December 4, 2012. Requests for a public meeting may be made by contacting Karen Goldberg by email at goldberg.karen@epa.gov, or by facsimile at (415) 947-3570. If a public meeting is requested, information about the date and time of the meeting will be published in the local newspaper, The Santa Maria Times, and will be sent to persons on the EPA's Casmalia Site mailing list. To be added to the mailing list, please contact: Jackie Lane at (415) 972-3236 or by email at lane.jackie@epa.gov. A copy of the settlement document may be obtained by calling (415) 369-0559 extension 10, and leaving a message with your name, phone number, and mailing address or email address.

ADDRESSES: Written comments should be addressed to Karen Goldberg, U.S. Environmental Protection Agency Region IX, 75 Hawthorne Street (mail code RC-3), San Francisco, California 94105-3901, or may be faxed to her at (415) 947-3570 or sent by email to goldberg.karen@epa.gov.

FOR FURTHER INFORMATION CONTACT: Additional information about the Casmalia Disposal Site and about the proposed settlement may be obtained on the EPA-maintained Casmalia Web site at: http://www.epa.gov/region09/casmalia or by calling Karen Goldberg at (415) 972-3951.

Dated: September 27, 2012.
Jane Diamond,
Director, Superfund Division, U.S. EPA Region IX.

[FR Doc. 2012-28223 Filed 11-19-12; 8:45 am]

BILLING CODE 6560-50-P